DEPARTMENT OF JUSTICE

Notice of Lodging of Consent Decree Under the Comprehensive Environmental Response, Compensation and Liability Act

Under 28 CFR 50.7, notice is hereby given that on September 17, 2007, a proposed consent decree with defendant Cardinal Electric Motor Repair, Inc. (“Cardinal”) was lodged in the civil action United States v. B & D Electric Co., Inc., et al., Civil Action No. 05-00063, in the United States District Court for the Eastern District of Missouri.

In this action the United States seeks, pursuant to section 107 of the Comprehensive Environmental Response, Compensation and Liability Act (“CERCLA”), 42 U.S.C. 9607, recovery of costs incurred in response to releases of hazardous substances at the Missouri Electric Works Superfund Site (“the Site”), in Cape Girardeau, Missouri. The proposed consent decree will resolve the United States' claims against defendant Cardinal under section 107 of CERCLA, 42 U.S.C. 9607, at the Site. Under the terms of the proposed consent decree, defendant Cardinal will make a cash payment of $10,500 to the United States. In return, the United States will grant Cardinal a covenant not to sue under CERCLA with respect to the Site.

The Department of Justice will receive for a period of thirty (30) days from the date of this publication comments relating to the proposed consent decree. Comments should be addressed to the Assistant Attorney General, Environment and Natural Resources Division, and either e-mailed to pubcomment-ees.enrd@usdoj.gov or mailed to P.O. Box 7611, U.S. Department of Justice, Washington, DC 20044-7611, and should refer to the proposed consent decree with defendant Cardinal Electric Motor Repair, Inc. in United States v. B & D Electric Co., Inc., et al., D.J. Ref. 90-11-2-614/1.

The proposed consent decree may be examined at the office of the United States Attorney, 111 S. 10th Street, 20th Floor, St. Louis, Missouri 63102 and at U.S. EPA Region VII, 901 N. 5th Street, Kansas City, Kansas 66101. During the public comment period, the consent decree may also be examined on the following Department of Justice Web site: http://www.usdoj.gov/enrd/Consent_Decrees.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.25 (25 cents per page reproduction cost) payable to the U.S. Treasury or, if by e-mail or fax, forward a check in that amount to the Consent Decree Library at the stated address.

Robert E. Maher, Jr.,
Assistant Chief, Environmental Enforcement Section, Environment and Natural Resources Division.

[FR Doc. 07-4740 Filed 9-26-07; 8:45 am]

BILLING CODE 4410-15-M